DEPARTMENT OF THE INTERIOR

Bureau of Indian Affairs

[156A2100DD.AADD001000.A0E501010.999900]

Johnson O'Malley Program

AGENCY: Bureau of Indian Affairs, Interior.

ACTION: Tribal consultation meetings.

SUMMARY: The Bureau of Indian Education (BIE) will be conducting consultation meetings to obtain oral and written comments on potential issues about the Johnson O'Malley (JOM) program. The meetings are a continuation of meetings conducted by the Bureau of Indian Affairs (BIA) and BIE in 2012. As required by 25 U.S.C. 2011(b), the purpose of consultation is to provide Indian tribes, school boards, parents, Indian organizations and other interested parties with an opportunity to comment on potential issues raised during previous consultation meetings or being considered by the BIE on Indian education programs.

DATES: See the SUPPLEMENTARY INFORMATION section of this document for dates of tribal consultation sessions. We will consider all comments received by May 10, 2015, 4:30 p.m. Eastern Time.

ADDRESSES: See the SUPPLEMENTARY INFORMATION section of this document for the locations of these tribal consultation sessions. Submit comments by mail or hand-deliver written comments to: Ms. Jennifer L. Davis, Program Analyst, Bureau of Indian Education, 1951 Constitution Avenue, Mail Stop Room 312A-SIB, Washington, DC 20245; facsimile: (202) 208-3271; or email to: JOMComments@bia.gov.

FOR FURTHER INFORMATION CONTACT: Ms. Jennifer L. Davis, Program Analyst, telephone: (202) 208-4397.

SUPPLEMENTARY INFORMATION: Tribal consultation sessions on the JOM Student Count will be held on the following dates and at the following locations:

Date | Time | Location
Tuesday, March 31, 2015 | 1 p.m.-4 p.m. (Pacific Standard Time) | Portland Marriott Downtown Waterfront, 1401 SW Naito Pkwy., Portland, OR 97201, (503) 226-7600. Local BIE Contact: Verla J. LaPlante; telephone (206) 220-7976.
Thursday, April 2, 2015 | 12 p.m.-3 p.m. (Eastern Standard Time) | Teleconference/Webinar. Teleconference Access: Call-in Number: 888-421-9594. Audience passcode: 1847541.
Wednesday, April 8, 2015 | 12 p.m.-3 p.m. (Eastern Standard Time) | Webinar Access: URL: https://www.mymeetings.com/nc/join/. Conference number: RW1826786.
Friday, April 10, 2015 | 9 a.m.-12 p.m. (Central Standard Time) | Holiday Inn Oklahoma City Airport, 4401 SW. 15th St., Oklahoma City, OK 73108, (405) 601-7272. Local BIE Contact: Catherine Fatheree; telephone: (405) 605-6051.

A consultation booklet for the meetings will be distributed to federally-recognized Indian tribes, Bureau Regional and Agency Offices and Bureau-funded schools. The booklets will also be available from local contact persons at each meeting and can be obtained on the BIE Web site at www.bie.edu.

Dated: February 26, 2015.
Kevin K. Washburn,
Assistant Secretary—Indian Affairs.

[FR Doc. 2015-04472 Filed 2-27-15; 4:15 pm]

BILLING CODE 4310-6W-P